DEPARTMENT OF THE INTERIOR

Office of the Secretary

Special Trustee Advisory Board, Notice of Initiation of the Nomination/Selection Process

AGENCY: Office of the Special Trustee for American Indians (OST), Interior.

ACTION: Call for nominations for membership to the Special Trustee for American Indians Advisory Board.

SUMMARY: Pub. L. 108-7, making further continuing appropriations for the fiscal year 2003, and for other purposes, became law on February 20, 2003. Section 133 of the General Provisions for the Department of the Interior directed the Special Trustee for American Indians, in consultation with the Secretary of the Interior and the Tribes, to appoint new members of the Special Trustee's Advisory Board within 90 days of enactment of Pub. L. 108-7. This notice initiates the process to select the new membership of that Board. Nominations for interested individuals meeting the specific criteria described in this notice for becoming a member of the Advisory Board should be submitted with the requested information within 30 days of publication of this Notice.

DATES: All nominations must be postmarked by 30 days from the date of publication in the Federal Register.

ADDRESSES: Nominations and supporting documentation should be sent to: The Office of Special Trustee for American Indians; 1849 C Street, NW., Ste 5140; Washington, DC 20240, Attn: Richard Fitzgerald.

FOR FURTHER INFORMATION CONTACT: Richard Fitzgerald (202) 208-4866 You can obtain information and a copy of the Notice for the Nomination/Selection process by contacting the following offices: OST 1849 C Street, NW., Ste 5140; Washington, DC 20240 or OST at 505 Marquette St, NW., Ste 800; Albuquerque, NM 87102; (505) 816-1313.

SUPPLEMENTARY INFORMATION: Pub. L. 108-7, making further continuing appropriations for the fiscal year 2003, and for other purposes became law on February 20, 2003. Section 133 of the General Provisions for the Department of the Interior directed the Special Trustee for American Indians, in consultation with the Secretary of the Interior and the Tribes, to appoint new members to the Special Trustee Advisory Board. The Office of the Special Trustee is now initiating the process to select the membership of that Board. Section 306 of the American Indian Trust Fund Management Reform Act of 1994 (Pub. L. 103-412; 25 U.S.C. 4046) requires the Special Trustee to establish an advisory board to provide advice on all matters within the jurisdiction of the Special Trustee. The advisory board must consist of nine members which must meet the following criteria: five members representing trust fund account holders, including both tribal and Individual Indian Money accounts; two members having practical experience in trust fund and financial management; one member having practical experience in fiduciary investment management; and one member from academia having knowledge of general management of large organizations. Advisory board members serve a two year term; travel and per diem expenses are provided. Final selections will be made by and serve at the discretion of the Special Trustee for American Indians. Individuals who wish to serve as members of the advisory board must complete and submit the following information to this office within 30 days of publication of this Notice in the Federal Register:

A. Nominee's Full Name:

B. Business Address:

C. Business Phone:

D. Home Address:

E. Home Phone;

F. Occupation/Title;

G. Qualifications (education including degrees, major field of study and/or training for I(2-4) or whether you are an individual or tribal account holder for I(1)):

H. Career Highlights (significant related experience; civic and professional activities, elected offices, prior advisory committee experience, or career achievements related to the interest to be represented):

I. Indicate Specific Area of Interest to be Represented from the following:

1. A representative from the trust fund account holders, including both tribal and Individual Indian Money accounts;

2. A representative having practical experience in trust fund and financial management;

3. A representative having practical experience in fiduciary investment management; or

4. A representative from academia having knowledge of general management of large organizations.

J. Attach a minimum of two Letters of Reference from interests or organizations represented.

K. Nominated by: Include Nominator's name, address and telephone number(s).

L. Date of nomination:

Groups may nominate more than one person. If nominating more than one nominee, please indicate your preferred order of appointment selection.

Dated: April 1, 2003.
Richard V. Fitzgerald,
Trust Policy Officer.

[FR Doc. 03-9125 Filed 4-14-03; 8:45 am]

BILLING CODE 4310-10-M